SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA. Fax: 202-395-6974. E-mail address: OIRA_Submission@omb.eop.gov

(SSA), Social Security Administration, DCBFM, Attn: Reports Clearance Officer, 1333 Annex Building, 6401 Security Blvd., Baltimore, MD 21235. Fax: 410-965-6400. E-mail address: OPLM.RCO@ssa.gov.

I. The information collections below are pending at SSA. SSA will submit them to OMB within 60 days from the date of this notice. To be sure we consider your comments, we must receive them no later than January 24, 2011. Individuals can obtain copies of the collection instruments by calling the SSA Reports Clearance Officer at 410-965-8783 or by writing to the above e-mail address.

1. Continuing Disability Review Report—20 CFR 404.1589, 416.989-0960-0072. SSA conducts periodic reviews to determine whether individuals receiving disability benefits continue their entitlement to or eligibility for those benefits. SSA collects the necessary information on Form SSA-454 to complete the review for continued disability for current Supplemental Security Income recipients. SSA conducts reviews on a periodic basis depending on the respondent's disability. We obtain information on sources of medical treatment, participation in vocational rehabilitation programs (if any), attempts to work (if any), and the opinions of individuals regarding whether their conditions have improved. The respondents are Title II and/or Title XVI disability recipients or their representatives.

Type of Request: Revision of an OMB-approved information collection.

Modality of completion | Number of respondents | Frequency of response | Average burden per response (minutes) | Total annual burden (hours)
SSA-454-BK (Paper version) | 1,500 | 1 | 60 | 1,500
EDCS * | 1,500 | 1 | 59 | 1,475
SSA-454-ICR | 541,000 | 1 | 30 | 270,500
Abbreviated EDCS interview to supplement SSA-454-ICR | 541,000 |  | 25 | 225,417
Totals | 1,085,000 |  |  | 498,892
* Claims representatives may choose to complete the EDCS 454 rather than the SSA-454-BK.

2. State Death Match Collections—20 CFR 404.301, 404.310-404.311, 404.316, 404.330-404-341, 404.350-404.352, 404.371; 416.912—0960-0700. SSA uses the State Death Match Collections to ensure the accuracy of payment files by detecting unreported or inaccurate deaths of beneficiaries. Under the Social Security Act, entitlement to retirement, disability, wife's, husband's, or parent's benefits terminates when the beneficiary dies. The States furnish death certificate information to SSA via the Manual Registration Process or the Electronic Death Registration Process (EDR). Both Death Match processes are automated electronic transfers between the States and SSA. The respondents are the States' bureaus of vital statistics.

Type of Request: Revision of an OMB-approved information collection.

Collection format | Number of respondents | Frequency of responses (per state) | Average cost per record request | Estimated annual cost burden
State Death Match—Manual Process | 23 | 50,000 | .80 | $920,000
State Death Match—EDR | 30 | 50,000 | 2.86 | 4,290,000
Totals | 53 |  |  | * 5,210,000
* Please note both data matching processes are electronic and there is no hourly burden for the respondent to provide this information.

II. SSA has submitted the information collection listed below to OMB for clearance. Your comments on the information collection would be most useful if OMB and SSA receive them within 30 days from the date of this publication. To be sure we consider your comments, we must receive them no later than December 27, 2010. You can obtain a copy of the OMB clearance package by calling the SSA Reports Clearance Officer at 410-965-8783 or by writing to the above e-mail address.

1. Work History Report—20 CFR 404.1515, 404.1560, 404.1565, 416.960 and 4163965—0960-0578. Under certain circumstances, SSA asks individuals about work they performed in the past. Applicants use Form SSA-3369 to provide detailed information about jobs held prior to becoming unable to work. State Disability Determination Services evaluate the information, together with medical evidence, to determine eligibility for disability.

Type of Request: Revision of an OMB-approved information collection.

Collection method | Number of respondents | Frequency of response | Average burden per response (hours) | Estimated annual burden (hours)
SSA-3369 (Paper form) | 1,090,346 | 1 | 1 | 1,090,346
EDCS 3369 | 607,122 | 1 | 1 | 607,122
Totals | 1,697,468 |  |  | 1,697,468

2. Appeal of Determination for Help with Medicare Prescription Drug Plan Costs—0960-0695. Public Law 108-173, the Medicare Prescription Drug, Improvement, and Modernization Act of 2003 (MMA), established the Medicare Part D program for voluntary prescription drug coverage for certain low-income individuals. The MMA stipulates subsidies must be available for individuals who are eligible for the program and who meet eligibility criteria for help with premium, deductible, or co-payment costs. Form SSA-1021, Appeal of Determination for Help with Medicare Prescription Drug Plan Costs, obtains information from individuals who appeal SSA's decisions regarding eligibility or continuing eligibility for a Medicare Part D subsidy. The respondents are applicants who are appealing SSA's eligibility or continuing eligibility decisions.

Type of Request: Revision of an OMB-approved information collection.

Number of Respondents: 75,000.

Frequency of Response: 1.

Average Burden per Response: 10 minutes.

Estimated Annual Burden: 12,500 hours.

Dated: November 18, 2010.
Liz Davidson,
Center Director, Center for Reports Clearance, Social Security Administration.

[FR Doc. 2010-29576 Filed 11-23-10; 8:45 am]

BILLING CODE 4191-02-P